DEPARTMENT OF THE INTERIOR

Bureau of Land Management

[UT-910-07-1120-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and The Federal Advisory Committee Act of 1972 (FACA), the U.S. Department of the Interior, Bureau of Land Management's (BLM) Utah Resource Advisory Council (RAC) will meet as indicated below.

DATES: The Utah Resource Advisory Council (RAC) will meet May 1-2, 2007.

ADDRESSES: On May 1, the RAC will meet at 10 a.m. at the Price Field Office of the BLM, 125 South 600 West, Price, Utah, for a field tour. On May 2, from 8 a.m. until 2 p.m., the RAC will be meeting at the Emery County Courthouse, 75 East Main, Castle Dale.

FOR FURTHER INFORMATION CONTACT: Contact Sherry Foot, Special Programs Coordinator,Utah State Office, Bureau of Land Management, P.O. Box 45155, Salt Lake City, Utah, 84145-0155; phone (801) 539-4195.

SUPPLEMENTARY INFORMATION: On May 1, the Utah BLM Resource Advisory Council will meet for a field tour of Nine Mile Canyon. Nine Mile Canyon was nominated as a National Register of Historic Places-Archaeologist District. Presentations on the history of the nomination, its resources and characteristics will be given. On May 2, the RAC will be given presentations from the Field Offices on recreation site fee proposals, an overview of Utah BLM issues, and an update on the Factory Butte temporary restriction order. A public comment period, where members of the public may address the RAC, is scheduled from 12:45 p.m.-1:15 p.m. Written comments may be sent to the Bureau of Land Management address listed above. All meetings are open to the public; however, transportation, lodging, and meals are the responsibility of the participating public.

Dated: March 6, 2007.
Selma Sierra,
State Director.

[FR Doc. E7-4418 Filed 3-9-07; 8:45 am]

BILLING CODE 4310-$$-P